DEPARTMENT OF TRANSPORTATION

Federal Aviation Administration

Agency Information Collection Activities: Requests for Comments; Clearance of Renewed Approval of Information Collection: Use of Certain Personal Oxygen Concentrator (POC) Devices on Board Aircraft

AGENCY: Federal Aviation Administration (FAA), DOT.

ACTION: Notice and request for comments.

SUMMARY: In accordance with the Paperwork Reduction Act of 1995, FAA invites public comments about our intention to request the Office of Management and Budget (OMB) approval to renew an information collection. A Special Federal Aviation Regulation requires passengers who intend to use an approved POC to present a physician statement before boarding. The flight crew must then inform the pilot-in-command that a POC is on board.

DATES: Written comments should be submitted by November 22, 2011.

FOR FURTHER INFORMATION CONTACT: Carla Scott on (202) 385-4293, or by e-mail at: Carla.Scott@faa.gov.

SUPPLEMENTARY INFORMATION: OMB Control Number: 2120-0702.

Title: Use of Certain Personal Oxygen Concentrator (POC) Devices on Board Aircraft.

Form Numbers: There are no FAA forms associated with this collection.

Type of Review: Renewal of an information collection.

Background: In the SFAR, we require the pilot in command to be apprised whenever a passenger, whose physician's statement prescribes extensive use of oxygen, brings a POC on board the aircraft. Also, we require passengers who have a medical need to use a POC during flight to have a signed physician statement in their possession that describes the oxygen therapy needed for the duration of the flight. The information provided to the pilot in command is used to determine whether an inflight diversion to an airport where medical assistance for the passenger may be needed in the event the passenger's POC fails to operate or the aircraft experiences cabin pressurization difficulties. The physician statement will be used by the operator to verify the need for the device, the oxygen therapy needed to be provided by use of the POC, and the oxygen needs of the passenger in case of emergency.

Respondents: Approximately 1,735,000 passengers.

Frequency: Information is collected as needed.

Estimated Average Burden per Response: 6 minutes.

Estimated Total Annual Burden: 172,694 hours.

ADDRESSES: Send comments to the FAA at the following address: Ms. Carla Scott, Room 336, Federal Aviation Administration, AES-300, 950 L'Enfant Plaza, SW., Washington, DC 20024.

Public Comments Invited: You are asked to comment on any aspect of this information collection, including (a) whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

Issued in Washington, DC, on September 19, 2011.
Carla Scott,
FAA Information Collection Clearance Officer, IT Enterprises Business Services Division, AES-200.

[FR Doc. 2011-24465 Filed 9-22-11; 8:45 am]

BILLING CODE 4910-13-P